DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed collection: Office of Federal Contract Compliance Programs Recordkeeping and Reporting Requirements, Construction. A copy of the proposed information collection request can be obtained by contacting the office listed below in the ADDRESSES section of this Notice.

DATES: Written comments must be submitted to the office listed in the ADDRESSES section below on or before February 6, 2004.

ADDRESSES: Ms. Hazel M. Bell, U.S. Department of Labor, 200 Constitution Ave., NW., Room S-3201, Washington, DC 20210, telephone (202) 693-0418, fax (202) 693-1451, E-mail bell.hazel@dol.gov. Please use only one method of transmission for comments (mail, fax, or E-mail).

SUPPLEMENTARY INFORMATION: I. Background: The Office of Federal Contract Compliance Programs (OFCCP) is responsible for the administration of three equal opportunity programs, which prohibit employment discrimination and require affirmative action by Federal contractors and subcontractors. The Acts administered by the OFCCP are Executive Order 11246, as amended Section 503 of the Rehabilitation Act, as amended, and the Vietnam Era Veterans' Readjustment Assistance Act of 1974, as amended (VEVRAA), 38 U.S.C. 4212. The OFCCP has promulgated regulations implementing these programs, which are found at Title 41 of the Code of Federal Regulations, Chapter 60. For purposes of this clearance request, the programs have been divided functionally into two categories, construction and supply service. This information collection request covers the recordkeeping and reporting requirements for the functional aspects of the program involving construction. A separate information collection request covers the recordkeeping and reporting requirements for functional aspects of the program involving supply and service, and is approved under OMB 1215-0072. This information collection is currently approved for use through December 31, 2003.

II. Review Focus: The Department of Labor is particularly interested in comments which:

• evaluate whether the proposed collection of information is necessary for the proper performance of the functions of the agency, including whether the information will have practical utility;

• evaluate the accuracy of the agency's estimate of the burden of the proposed collection of information, including the validity of the methodology and assumptions used;

• enhance the quality, utility and clarity of the information to be collected; and

• minimize the burden of the collection of information on those who are to respond, including through the use of appropriate automated, electronic, mechanical, or other technological collection techniques or other forms of information technology, e.g., permitting electronic submissions of responses.

III. Current Actions: The Department of Labor seeks the extension of approval to collect this information in order to carry out its responsibility to enforce the affirmative action and anti-discrimination provisions of the three Acts, which it administers. OFCCP is conducting an internal assessment of the burden hours reported in this information collection request. OFCCP intends to publish the internal study for public comment in seeking a three-year approval on this information collection request. OFCCP is currently seeking a six-month authorization, which will provide sufficient time to complete the internal study.

Type of Review: Extension.

Agency: Employment Standards Administration.

Title: OFCCP Recordkeeping and Reporting Requirements, Construction.

OMB Number: 1215-0163.

Agency Number:

Affected Public: Business or other for-profit, not-for-profit institutions.

Total Respondents: 100,000.

Total Annual responses: 100,000.

Average Time per Response, Recordkeeping: 48 hours.

Records Maintenance: 8 to 24 hours.

Affirmative Action Plan, Initial Development: 18 hours.

Affirmative Action Plan, Annual Update: 7.5 hours.

Affirmative Action Plan, Maintenance: 7.5 hours.

Compliance Reviews: 1-2 hours.

Total Burden Hours, Recordkeeping and Reporting: 4,841,468.

Frequency: Annually.

Total Burden Cost (capital/startup): $8,217.

Total Burden Cost (operating/maintenance): $0.

Comments submitted in response to this notice will be summarized and/or included in the request for Office of Management and Budget approval of the information collection request; they will also become a matter of public record.

Dated: December 2, 2003.
Bruce Bohanon,
Chief, Branch of Management Review and Internal Control, Division of Financial Management, Office of Management, Administration and Planning, Employment Standards Administration.

[FR Doc. 03-30367 Filed 12-5-03; 8:45 am]

BILLING CODE 4510-CM-P